DEPARTMENT OF AGRICULTURE

Forest Service

Tonto National Forest; AZ; Salt River Allotments Vegetative Management EIS

AGENCY: Forest Service, USDA.

ACTION: Notice of intent to prepare an environmental impact statement.

SUMMARY: The Tonto National Forest will prepare an Environmental Impact Statement (EIS) on a proposal to improve ecological conditions within the project area using tools such as fire and grazing management and to authorize continued livestock grazing on National Forest System (NFS) lands within the Globe and Tonto Basin Ranger Districts. The Project Area is located along the Salt River in Gila County, Arizona.

DATES: Comments concerning the scope of the analysis must be received by July 5, 2011. The draft environmental impact statement is expected November 2011 and the final environmental impact statement is expected March 2012.

ADDRESSES: Send written comments to Kathy Nelson, Tonto National Forest, 2324 E. McDowell Rd., Phoenix, AZ 85006. Comments may also be sent via e-mail to comments-southwestern-tonto@fs.fed.us, or via facsimile to 602-225-5295.

FOR FURTHER INFORMATION CONTACT: Kathy Nelson, 602-225-5328, knelson@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

Six authorizations for livestock grazing have or will soon expire and ecological conditions in some areas on these allotments have not moved towards desired future conditions as outlined in the Tonto National Forest Plan. For example, diversity of current vegetation (including where it is located and how it functions) does not meet desired future conditions in all locations within the project area. Past management practices, such as suppression of wildland fires are limited and have not always proven effective. In addition, knowledge and strategies for ecosystem management have changed over time, providing an opportunity to improve vegetative conditions using current science, methods, and strategies. As a result, there is a need to develop new management strategies for ecosystems within the six allotments along the Salt River. The purpose of this effort is to improve ecological conditions within the project area using tools such as fire and grazing management in order to meet desired future conditions as specified in the Forest Plan while balancing multiples uses. In addition, per Forest Service Handbook 2209.13, Chapter 90, section 92.22, the purpose of this action is to authorize livestock grazing in a manner consistent with Forest Plan direction to move ecosystems towards their desired conditions.

Proposed Action

The Tonto National Forest proposes to use a set of tools that lessen or eliminate disparities between existing conditions and desired conditions in the project area. Examples of tools that land managers may use to accomplish this include, but are not limited to, livestock grazing, prescribed fire, managed wildland fire, herbicide application, mechanical vegetative removal, and seeding. The proposed action includes an adaptive management strategy that allows land managers to be flexible enough to make timely decisions relative to a host of ever changing environmental conditions (CFR 220.3). This proposed action focuses on entire ecosystem potential rather than a subordinate role of a single resource use or activity within analysis area ecosystems. Since one tool under consideration for executing the proposed action is grazing, Globe and Tonto Basin Ranger Districts, in collaboration with grazing permittees, propose to reauthorize livestock grazing on six allotments; Chrysotile, Haystack Butte, Dagger, Sedow, Hicks Pikes Peak and Poison Springs/Sierra Ancha. Livestock grazing, as an ecosystem tool, would provide year-long application utilizing various age classes of cattle on each allotment. Grazing would continue to comply with the Tonto National Forest Land Management Plan (1985 as amended), which provides direction for grazing using various management levels in five management areas on these two districts. Grazing practices would comply with national and regional policy and direction (FSM 2200, FSH 2209.13) and would incorporate adaptive management strategies (FSH 2209.13 Chapter 90) to optimize forage production where appropriate and benefit a variety of natural resources and multiple use objectives in ecosystems ranging from grassland to forest. Conditions are highly variable in the analysis area ecosystems due to historically dynamic climatic regimes in the desert southwest and globally changing climate conditions. Production of palatable forage and browse for livestock and wildlife varies greatly both seasonally and annually. Through adaptive management strategies, this proposed action strives to respond to change by utilizing a variety of tactics, which may include but are not limited to, flexible stocking rates, vegetation manipulation, and water development. Actual numbers, season of use, and class of domestic grazing animal would be determined annually within upper allowed stocking limits for the Tonto National Forest of 800 animals per grazing permittee (FSH 2209.13). Data for determining stocking would be gathered throughout each grazing season using a variety of monitoring techniques as described in agency manuals and handbooks as well as through scientific literature produced through other agencies, research stations, and universities. Rangeland allotment infrastructure includes, but is not limited to, forms of improvements such as fences, water wells, spring developments, storage tanks, pipelines, and watering troughs. These improvements range in condition from excellent to poor. Those in poor condition are considered a priority for improvement through this proposed action. Additionally, each allotment will propose a variety of new range improvements to be constructed for facilitation of livestock distribution to accomplish ecosystem objectives.

Additional management tools, including but not limited to, wildfire and prescribed fire and noxious weed treatments are proposed for use to benefit forage and browse production and other resource objectives. Globe and Tonto Basin Ranger Districts also propose use of fuels management techniques on these allotments as authorized through Tonto National Forest Land Management Plan (1985, as amended), to allow wildfire to resume its natural ecological role in fire dependent ecosystems. The proposed action includes specific objectives and treatment alternatives for the following Management Areas found within analysis area:

6J General Management Area—Tonto Basin Ranger District

Wildland fire would be managed to protect, maintain, and enhance Federal lands in a cost effective manner. A combination of wildfire and prescribed fire may be used to provide a mosaic of age classes and a mix of successional stages within fire-dependent ecosystems. Wildfires, or portions of those fires, would be suppressed when they adversely affect forest resources, endanger public safety, or have potential to damage property and natural/cultural resources. Sonoran Desert and riparian vegetation types would be protected from fire except where burn plans identify resource and ecological need.

2F General Management Area—Globe Ranger District

Wildland fire would be managed to protect, maintain, and enhance Federal lands in a cost effective manner. A combination of wildfire and prescribed fire may be used to provide a mosaic of age classes and a mix of successional stages within fire-dependent ecosystems. Wildfires, or portions of those fires, would be suppressed when they adversely affect forest resources, endanger public safety, or have potential to damage property and natural/cultural resources. Sonoran Desert and riparian vegetation types would be protected from fire except where burn plans identify resource and ecological needs. A variety of fuels management techniques may be used to reduce natural and activity fuels to condition class 1 (e.g., fire regime within historic range and vegetation composition, function, and structure are within normal range), including fuel wood harvesting, chipping, pile and burn, and broadcast burning.

2C Upper Salt River Management Area—Globe Ranger District

Wildland fire would be managed to protect, maintain, and enhance Federal lands in a cost effective manner. Fire management objectives for this area include providing a mosaic of age classes within total type, which would provide a mix of successional stages, and allow wildfire to resume its natural ecological role within ecosystems. Wildfires, or portions of those fires, would be suppressed when they adversely affect forest resources, endanger public safety, or have potential to damage property and natural/cultural resources.

2B Salt River Canyon Wilderness—Globe Ranger District/5A Sierra Ancha Wilderness—Pleasant Valley Ranger District

Wildland fire would be managed to protect, maintain, and enhance Federal lands in a cost effective manner consistent with wilderness resource objectives. Wildfire may be used to play, as nearly as possible, its natural role in wilderness while also reducing unnatural fuel hazards as identified in Forest Service Manual and approved Wilderness Implementation Plan.

Responsible Officials

Richard Reitz, Globe District Ranger and Kelly Jardine, Tonto Basin District Ranger.

Nature of Decision To Be Made

The Forest Service would evaluate the proposed action and alternatives to the proposed action. After reviewing the proposed action, the alternatives, the environmental analysis, and considering public comment, the two District Rangers would reach a decision that is in accordance with the purpose and need of this project. The decision would include a description of activities that would be implemented.

Preliminary Issues

Multiple uses considered within the Salt River Corridor is an issue with Threatened, Endangered and Sensitive species, recreation, and riparian resources.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: May 25, 2011.
Richard Reitz,
Globe District Ranger.
Dated: May 25, 2011.
Kelly Jardine,
Tonto Basin District Ranger.

[FR Doc. 2011-13640 Filed 6-1-11; 8:45 am]

BILLING CODE 3410-11-P